DEPARTMENT OF THE INTERIOR

Bureau of Indian Affairs

[167A2100DD/AAKC001030/A0A501010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 0.92 acres, more or less, an addition to the reservation of the Shakopee Mdewakanton Sioux Community of Minnesota on March 22, 2016.

FOR FURTHER INFORMATION CONTACT: Sharlene Round Face, Bureau of Indian Affairs, Division of Real Estate Services, MS-4642-MIB, 1849 C Street NW., Washington, DC 20240, at (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467), for the land described below. The land was proclaimed to be Shakopee Mdewakanton Sioux Community Reservation for the exclusive use of Indians on that reservation who are entitled to reside at the reservation by enrollment or tribal membership.

Reservation of the Shakopee Mdewakanton Sioux Community, Township of Prior Lake, County of Scott and State of Minnesota

Former Eagle Creek Circle Property

Legal Description Containing 0.92 Acres, More or Less

Commencing at Northeast corner of said Section 34; thence on an assumed bearing of North 89 degrees 49 minutes 15 seconds West along the North line of said Section 34, a distance of 88.24 feet to its intersection with the westerly right-of-way line for a county highway known as County State Aid Highway No. 21 (Said right-of-way is described in an Order dated April 18, 2000 and filed on October 5, 2001 as Document No. A 520970 in the Office of county Recorder in and for Scott County, Minnesota); thence southerly along said westerly right-of-way line along a curve, concave to the east, a radius of 22978.31 feet, a central angle of 00 degrees 21 minutes 46 seconds, a distance of 145.47 feet to the point of beginning of the land to be described; thence South 88 degrees 01 minutes 50 seconds West, a distance of 100.00 feet; thence southerly along a curve, concave to the east, a radius of 23078.31 feet, a central angle of 00 degrees 21 minutes 32 seconds, a distance of 144.56 feet; thence South 02 degrees 19 minutes 42 seconds East, a distance of 256.67 feet; thence South 89 degrees 49 minutes 15 seconds East, a distance of 100.10 feet to its intersection with said westerly right-of-way line, thence North 02 degrees 19 minutes 42 seconds West along said westerly right-of-way line, a distance of 261.05 feet; thence northerly along a curve, concave to the east, a radius of 22978.31 feet, a central angle of 00 degrees 21 minutes 32 seconds, a distance of 143.93 feet along said westerly line to the point of beginning.

This proclamation does not affect title to the land described above, nor does it affect any valid existing easements for public roads and highways, for public utilities and for railroads or pipelines and any other rights-of-way or reservations of record.

Dated: March 22, 2016.
Lawrence S. Roberts,
Acting Assistant Secretary—Indian Affairs.

[FR Doc. 2016-06965 Filed 3-25-16; 8:45 am]

BILLING CODE 4333-15-P